DEPARTMENT OF ENERGY

Federal Energy Regulatory Commission

[Docket No. ER03-262-004]

The New PJM Companies: American Electric Power Service Corporation, On Behalf of its Operating Companies: Appalachian Power Company, Columbus Southern Power Company, Indiana Michigan Power Company, Kentucky Power Company, Kingsport Power Company, Ohio Power Company and Wheeling Power Company; Commonwealth Edison Company and Commonwealth Edison Company of Indiana, Inc.; The Dayton Power and Light Company; Virginia Electric and Power Company and PJM Interconnection, L.L.C.; Notice Amending Prior Notices

May 15, 2003.

On May 1, 2003, American Electric Power Service Corporation, Commonwealth Edison Company, Dayton Power and Light Company, Virginia Electric and Power Company, and PJM Interconnection, LLC (collectively, New PJM Companies) filed a compliance filing in the above-docketed proceeding. This compliance filing was noticed by the Commission on May 8, 2003 and established a May 22, 2003 comment deadline. On May 6, 2003 and May 7, 2003, the New PJM Companies filed erratas to their original compliance filing. The Commission issued a notice on May 13, 2003, establishing a May 28, 2003, deadline for filing comments on the second errata filing. This notice amends the prior notices issued in these dockets and establishes a new date for filing comments.

Notice is hereby given that comments, protests and motions in response to the original compliance filing and the two erratas filed in this subdocket on May 6 and May 7, 2003, should be filed on or before June 4, 2003.

Magalie R. Salas,
Secretary.

[FR Doc. 03-12825 Filed 5-21-03; 8:45 am]

BILLING CODE 6717-01-P